DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 75 FR 51088-51091 dated August 18, 2010).

This notice reflects organizational changes in the Health Resources and Services Administration. This notice updates the functional statement for the Office of Special Health Affairs (RA1) and the functional statement for the Office of Planning, Analysis and Evaluation (RA5). Specifically, this notice moves the Office of Health Information Technology and Quality (RA52) from the Office of Planning, Analysis and Evaluation (RA5) to the Office of Special Health Affairs (RA1); abolishes the Office of Data Management and Research (RA54) and establishes the Office of Research and Evaluation (RA56); and eliminates the Office of Planning and Evaluation (RA51) and moves its functions to the Office of Research and Evaluation (RA56).

Chapter RA1—Office of Special Health Affairs

Section RA1-10, Organization

Delete in its entirety and replace with the following:

The Office is headed by the Director, Office of Special Health Affairs (RA1), who reports directly to the Administrator, Health Resources and Services Administration. Office of Special Health Affairs includes the following components:

(1) Office of the Director (RA1);

(2) Office of Health Equity (RA11);

(3) Office of Global Health Affairs (RA12);

(4) Office of Strategic Priorities (RA13); and

(5) Office of Health Information Technology and Quality (RA14).

Section RA1-20, Functions

(1) Delete the functional statement for the Office of the Director (RA1) and replace in its entirety; and (2) establish the Office of Health Information Technology and Quality (RA14).

Office of the Director (RA1)

Provides overall leadership, direction, coordination, and planning in the support of the Agency's special health programs. Specifically: (1) Plans and directs activities to advance health equity and improve minority health and eliminate health disparities; (2) develops strategies to maximize HRSA's participation in efforts to improve health care for vulnerable populations worldwide; (3) provides leadership and direction to improve the delivery and quality of oral health care, mental health and other priority health concerns; (4) provides leadership in the development of policies on health information technology and quality; and (5) provides support for the Department's Medical Claims Review Panel.

Office of Health Information Technology and Quality (RA14)

Serves as the principal advisor and coordinator to the Agency for health information technology and quality. Specifically: (1) Provides support, policy direction, and leadership for HRSA's health quality efforts; (2) serves as the focal point for developing policy to promote the coordination and advancement of health information technology, including telehealth, to HRSA's programs, including the use of electronic health record systems; (3) develops an Agency-wide health information technology and telehealth strategy for HRSA; (4) assists HRSA components in program-level health information technology and health quality efforts; (5) ensures successful dissemination of appropriate information technology advances, such as electronic health records systems, to HRSA programs; (6) works collaboratively with States, foundations, national organizations, private sector providers, as well as departmental agencies and other Federal departments in order to promote the adoption of health information technology and health quality policy; (7) ensures the health information technology policy and activities of HRSA are coordinated with those of other HHS components; (8) assesses the impact of health information technology and quality initiatives in the community, especially for the uninsured, underserved, and special needs populations; (9) translates technological advances in health information technology to HRSA's programs; (10) provides guidance in using the results of the medical claims review process to HRSA programs to improve quality; and (11) provides support for the Department's Medical Claims Review Panel.

Chapter RA5—Office of Planning, Analysis and Evaluation

Section RA5-10, Organization

Delete in its entirety and replace with the following:

The Office is headed by the Director, Office of Planning, Analysis and Evaluation (RA5), who reports directly to the Administrator, Health Resources and Services Administration. Office of Planning, Analysis and Evaluation includes the following components:

(1) Office of the Director (RA5);

(2) Office of Policy Analysis (RA53); and

(3) Office of Research and Evaluation (RA56).

Section RA5-20, Functions

(1) Delete the functional statement for the Office of the Director (RA5) and replace in its entirety; and (2) delete the functional statement for the Office of Data Management and Research (RA54) and replace with the newly established Office of Research and Evaluation (RA56).

Office of the Director (RA5)

(1) Provides Agency-wide leadership for policy development, data collection and management, major analytic activities, research, and evaluation; (2) develops HRSA-wide policies; (3) participates with HRSA organizations in developing strategic plans for their component; (4) coordinates the Agency's long term strategic planning process; (5) conducts and/or guides analyses, research, and program evaluation; (6) analyzes budgetary data with regard to planning guidelines; (7) coordinates the Agency's intergovernmental activities; (8) maintains liaison between the Administrator, other OPDIVs, Office of the Secretary staff components, and other Departments on critical matters involving analysis of program policy undertaken in the Agency; (9) prepares policy analysis papers and planning documents as required; and (10) collaborates with Office of Operations in the development of budgets, performance plans, and other administration reporting requirements.

Office of Research and Evaluation (RA56)

(1) Serves as the principal source of leadership and advice on program information and research; (2) analyzes and coordinates the Agency's need for information and data for use in the management and direction of Agency programs; (3) manages an Agency-wide information and data group as well as an Agency-wide research group; (4) maintains an inventory of HRSA databases; (5) provides technical assistance to HRSA staff in database development, maintenance, analysis, and distribution; (6) promotes the availability of HRSA data through web sites and other on-line applications; (7) conducts, oversees, and fosters high quality research across HRSA programmatic interests; (8) develops an annual research agenda for the Agency; (9) conducts, leads, and/or participates with HRSA staff in the development of research and demonstration projects; (10) coordinates HRSA participation in institutional review boards and the protection of human subjects; (11) conducts, guides, and/or participates in major program evaluation efforts and prepares reports on HRSA program efficiencies; (12) develops annual performance plans; (13) analyzes budgetary data with regard to planning guidelines; (14) develops and produces performance reports required under the Government Performance and Accountability Report and OMB; and (15) manages HRSA activity related to the Paperwork Reduction Act, and other OMB policies.

Section RA-30, Delegations of Authority

All delegations of authority and re-delegations of authority made to HRSA officials that were in effect immediately prior to this reorganization, and that are consistent with this reorganization, shall continue in effect pending further re-delegation.

This reorganization is upon date of signature.

Dated: September 14, 2010.
Mary K. Wakefield,
Administrator.

[FR Doc. 2010-23429 Filed 9-17-10; 8:45 am]

BILLING CODE 4165-15-P